DEPARTMENT OF THE INTERIOR

Fish and Wildlife Service

Endangered and Threatened Species Permit Applications

AGENCY: Fish and Wildlife Service, Interior.

ACTION: Notice of receipt of applications.

SUMMARY: The following applicants have applied for scientific research permits to conduct certain activities with endangered species pursuant to section 10(a)(1)(A) of the Endangered Species Act of 1973, as amended.

DATES: To ensure consideration, written comments must be received on or before April 7, 2005.

ADDRESSES: Written comments should be submitted to the Chief, Endangered Species Division, Ecological Services, P.O. Box 1306, Room 4102, Albuquerque, New Mexico 87103. Documents and other information submitted with these applications are available for review, subject to the requirements of the Privacy Act and Freedom of Information Act. Documents will be available for public inspection, by appointment only, during normal business hours at the U.S. Fish and Wildlife Service, 500 Gold Ave., SW., Room 4102, Albuquerque, New Mexico. Please refer to the respective permit number for each application when submitting comments. All comments received, including names and addresses, will become part of the official administrative record and may be made available to the public.

FOR FURTHER INFORMATION CONTACT: Chief, Endangered Species Division, (505) 248-6920.

SUPPLEMENTARY INFORMATION:

Permit No. TE-097611

Applicant: Beverly Shade, Austin, Texas.

Applicant requests a new permit for research and recovery purposes to conduct presence/absence surveys for Mexican long-nosed bat (Leptonycteris nivalis), Barton Springs salamander (Eurycea sosorum), and Texas blind salamander (Typhlomolge rathbuni) within Texas. Additionally, applicant requests authorization to survey for and collect the following species within Texas: Batrisodes venyivi (Helotes mold beetle), Cicurina baronia (Robber Baron Cave meshweaver), Cicurina madla (Madla's cave meshweaver), Cicurina venii (Braken Bat Cave meshweaver), Cicurina vespera (Government Canyon Bat Cave meshweaver), Neoleptoneta microps (Government Canyon Bat Cave spider), Neoleptoneta myopica (Tooth Cave spider), Rhadine exilis (ground beetle, no common name), Rhadine infernalis (ground beetle, no common name), Rhadine persephone (Tooth Cave ground beetle), Tartarocreagris texana (Tooth Cave pseudoscorpion), Texamaurops reddelli (Kretschmarr Cave mold beetle), Texella cokendolpheri (Cokendolpher cave harvestman), Texella reddelli (Bee Creek Cave harvestman), and Texella reyesi (Bone Cave harvestman).

Permit No. TE-097612

Applicant: Robert Beatson, Tucson, Arizona.

Applicant requests a new permit for research and recovery purposes to conduct presence/absence surveys and nest monitoring for cactus ferruginous pygmy-owl (Glaucidium brasilianum cactorum) within Arizona.

Permit No. TE-098049

Applicant: National Park Service, Padre Island National Seashore, Corpus Christi, Texas.

Applicant requests a new permit for research and recovery purposes to conduct presence/absence surveys for the following species within Texas: black-capped vireo (Vireo atricapillus), brown pelican (Pelecanus occidentalis), northern aplomado falcon (Falco femoralis septentrionalis), and piping plover (Charadrius melodus).

Permit No. TE-099263

Applicant: Robert Root, Albuquerque, New Mexico.

Applicant requests a new permit for research and recovery purposes to conduct presence/absence surveys for black-footed ferret (Mustela nigripes) and southwestern willow flycatcher (Empidonax traillii extimus) within Arizona, New Mexico, and Texas.

Permit No. TE-021881

Applicant: TRC Co., Inc., Albuquerque, New Mexico.

Applicant requests an amendment to an existing permit to allow presence/absence surveys for the following species within Arizona, New Mexico, and Texas: Hualapai Mexican vole (Microtus mexicanus hualpaiensis), jaguar (Panthera onca), jaguarundi (Herpailurus yagouaroundi cacomitli), Mount Graham red squirrel (Tamiasciurus hudsonicus grahamensis), ocelot (Leopardus pardalis), Sonoran pronghorn (Antilocapra americana sonoriensis), Attwater's greater prairie-chicken (tympanuchus cupido attwateri), black-capped vireo (Vireo atricapilla), brown pelican (Pelecanus occidentalis), cactus ferruginous pygmy-owl (Glaucidium brasilianum cactorum), California condor (Gymnogyps californianus), Eskimo curlew (Numenius borealis), golden-cheeked warbler (Dendroica chrysoparia), interior least tern (Sterna antillarum), masked bobwhite (Colinus virginianus ridgwayi), northern aplomado falcon (Falco femoralis septentrionalis), red-cockaded woodpecker (Picoides borealis), southwestern willow flycatcher (Empidonax traillii extimus), whooping crane (Grus americana), and Yuma clapper rail (Rallus longirostris yumanensis).

Permit No. TE-099276

Applicant: Marron & Associates, Albuquerque, New Mexico.

Applicant requests a new permit for research and recovery purposes to conduct presence/absence surveys for southwestern willow flycatcher (Empidonax traillii extimus) within Arizona.

Permit No. TE-099278

Applicant: Fred Phillips Consulting, LLC, Flagstaff, Arizona.

Applicant requests a new permit for research and recovery purposes to conduct presence/absence surveys for southwestern willow flycatcher (Empidonax traillii extimus) and Yuma clapper rail (Rallus longirostris yumanensis) within Arizona.

Permit No. TE-100419

Applicant: Lucy Dueck, Aiken, South Carolina.

Applicant requests a new permit for research and recovery purposes to survey for and collect Spiranthes delitescens (Canelo hills ladies'-tresses) within Arizona and Spiranthes parksii (Navasota ladies'-tresses) within Texas.

Permit No. TE-086562

Applicant: Jeriann L. Howard, Bluff, Utah.

Applicant requests an amendment to an existing permit to allow presence/absence surveys for southwestern willow flycatcher (Empidonax traillii extimus) within Arizona, New Mexico, and Utah.

Permit No. TE-100568

Applicant: Texas Department of Transportation, Fort Worth, Texas.

Applicant requests a new permit for research and recovery purposes to conduct presence/absence surveys for golden-cheeked warbler (Dendroica chrysoparia) and black-capped vireo (Vireo atricapillus) within Texas.

Permit No. TE-100567

Applicant: Texas Department of Transportation, San Antonio, Texas.

Applicant requests a new permit for research and recovery purposes to conduct presence/absence surveys for the following species within Texas: jaguarondi (Herpailurus yagouaroundi cacomitli), ocelot (Leopardus pardalis), Attwater's greater prairie-chicken (Tympanuchus cupido attwateri), black-capped vireo (Vireo atricapilla), brown pelican (Pelecanus occidentalis), golden-cheeked warbler (Dendroica chrysoparia), interior least tern (Sterna antillarum), northern aplomado falcon (Falco femoralis septentrionalis), red-cockaded woodpecker (Picoides borealis), Concho water snake (Nerodia paucimaculata), Houston toad (Bufo houstonensis), fountain darter (Etheostoma fonticola), and San Marcos gambusia (Gambusia georgei). Additionally, applicant requests authorization to survey for and collect the following species within Texas: Batrisodes texanus (Coffin Cave mold beetle), Batrisodes venyivi (Helotes mold beetle), Cicurina baronia (Robber Baron Cave meshweaver), Cicurina madla (Madla's cave meshweaver), Cicurina venii (Braken Bat Cave meshweaver), Cicurina vespera (Government Canyon Bat Cave meshweaver), Neoleptoneta microps (Government Canyon Bat Cave spider), Neoleptoneta myopica (Tooth Cave spider), Rhadine exilis (ground beetle, no common name), Rhadine infernalis (ground beetle, no common name), Rhadine persephone (Tooth Cave ground beetle), Tartarocreagris texana (Tooth Cave pseudoscorpion), Texamaurops reddelli (Kretschmarr Cave mold beetle), Texella cokendolpheri (Cokendolpher cave harvestman), Texella reddelli (Bee Creek Cave harvestman), and Texella reyesi (Bone Cave harvestman), Ancistrocactus tobuschii (Tobusch fishhook cactus), Phlox nivalis ssp. texensis (Texas trailing phlox), Styrax texana (Texas snowbells).

Permit No. TE-100566

Applicant: Texas Department of Transportation, Corpus Christi, Texas.

Applicant requests a new permit for research and recovery purposes to conduct presence/absence surveys for the following species within Texas: jaguarundi (Herpailurus yagouaroundi cacomitli), ocelot (Leopardus pardalis), Attwater's greater prairie-chicken (Tympanuchus cupido attwateri), brown pelican (Pelecanus occidentalis), interior least tern (Sterna antillarum), and piping plover (Charadrius melodus).

Permit No. TE-100565

Applicant: Jack Woody, Rio Rancho, New Mexico.

Applicant requests a new permit for research and recovery purposes to conduct presence/absence surveys for southwestern willow flycatcher (Empidonax traillii extimus) within New Mexico.

Permit No. TE-009792

Applicant: The Arboretum at Flagstaff, Flagstaff, Arizona.

Applicant requests an amendment to an existing permit to allow survey and collection of Astragalus cremnophylax var. cremnophylax (Sentry milk-vetch) and Pediocactus bradyi (Brady pincushion cactus) within Arizona.

Permit No. TE-100564

Applicant: Laura Green, Tempe, Arizona.

Applicant requests a new permit for research and recovery purposes to conduct presence/absence surveys for cactus ferruginous pygmy-owl (Glaucidium brasilianum cactorum) within Arizona.

Permit No. TE-055419

Applicant: Turner Biological Consulting, Tuscola, Texas.

Applicant requests an amendment to an existing permit to allow presence/absence surveys for the following species within New Mexico, Oklahoma, and Texas: jaguar (Panthera onca), Mexican long-nosed bat (Leptonycteris nivalis), Attwater's greater prairie-chicken (Tympanuchus cupido attwateri), black-capped Vireo (Vireo atricapilla), brown pelican (Pelecanus occidentalis), golden-cheeked warbler (Dendroica chrysoparia), interior least tern (Sterna antillarum), northern aplomado falcon (Falco femoralis septentrionalis), piping plover (Charadrius melodus), red-cockaded woodpecker (Picoides borealis), southwestern willow flycatcher (Empidonax traillii extimus), whooping crane (Grus Americana), Big Bend gambusia (Gambusia gaigei), Clear Creek gambusia (Gambusia heterochir), Comanche Springs pupfish (Cyprinodon elegans), Leon Springs pupfish (Cyprinodon bovinus), Pecos gambusia (Gambusia nobilis), and San Marcos gambusia (Gambusia georgei). Additionally, applicant requests authorization to survey for and collect the following species within New Mexico, Oklahoma, and Texas: Ancistrocactus tobuschii (Tobush fishhook cactus), Astrophytum asterias (star cactus), Callirhoe scabriuscula (Texas poppy mallow), Coryphantha minima (Nellie cory cactus), Coryphantha ramillosa (bunched cory cactus), Coryphantha sneedii var. sneedii (Sneed pincushion cactus), Cryptantha crassipes (Terlingua Creek cat's eye), Echinocereus chisoensis var. chisoensis (Chisos Mountain hedgehog cactus), Echinocereus reichenbachii var. albertii (black lace cactus), Echinocereus viridiflorus var. davisii (Davis green pitaya), Echinomastus mariposensis (Lloyd's Mariposa cactus), Helianthus paradoxus (Pecos sunflower), Quercus hinkleyi (Hinkley oak), and Zizania texana (Texas wild-rice).

Permit No. TE-835139

Applicant: Hawks Aloft, Albuquerque, New Mexico.

Applicant requests an amendment to an existing permit to allow presence/absence surveys and nest monitoring activities for southwestern willow flycatcher (Empidonax traillii extimus) within New Mexico.

Permit No. TE-100579

Applicant: Salt River Project Agricultural Improvement and Power District, Tempe, Arizona.

Applicant requests a new permit for research and recovery purposes to conduct habitat manipulation and monitoring, presence/absence surveys, nest searches, and nest monitoring for the southwestern willow flycatcher (Empidonax traillii extimus) within Arizona.

Authority: 16 U.S.C. 1531, et seq.

Dated: February 18, 2005.
Joy E. Nicholopoulos,
Acting Assistant Regional Director, Ecological Services, Region 2, Albuquerque, New Mexico.

[FR Doc. 05-4443 Filed 3-7-05; 8:45 am]

BILLING CODE 4310-55-P